DEPARTMENT OF ENERGY

Federal Energy Regulatory Commission

Combined Notice of Filings #2

Take notice that the Commission received the following electric rate filings:

Docket Numbers: ER16-1427-000.

Applicants: Public Service Company of Colorado.

Description: Tariff Cancellation: 2016-4-15_PSCo Cancel Tariff ID to be effective 4/15/2016.

Filed Date: 4/15/16.

Accession Number: 20160415-5152.

Comments Due: 5 p.m. ET 5/6/16.

Docket Numbers: ER16-1428-000.

Applicants: Public Service Company of Colorado.

Description: Compliance filing: Re-baseline to be effective 4/16/2016.

Filed Date: 4/15/16.

Accession Number: 20160415-5157.

Comments Due: 5 p.m. ET 5/6/16.

Docket Numbers: ER16-1429-000.

Applicants: Northern States Power Company, a Minnesota corporation.

Description: Compliance filing: Re-baseline to be effective 4/16/2016.

Filed Date: 4/15/16.

Accession Number: 20160415-5167.

Comments Due: 5 p.m. ET 5/6/16.

Docket Numbers: ER16-1430-000.

Applicants: Northern States Power Company, a Wisconsin corporation.

Description: Compliance filing: Re-baseline to be effective 4/16/2016.

Filed Date: 4/15/16.

Accession Number: 20160415-5168.

Comments Due: 5 p.m. ET 5/6/16.

Docket Numbers: ER16-1431-000.

Applicants: Southwestern Public Service Company.

Description: Compliance filing: Re-baseline to be effective 4/16/2016.

Filed Date: 4/15/16.

Accession Number: 20160415-5177.

Comments Due: 5 p.m. ET 5/6/16.

Docket Numbers: ER16-1432-000.

Applicants: Southwestern Public Service Company.

Description: Tariff Cancellation: 4-15-16 SPS Tariff ID1000 NOC to be effective 4/15/2016.

Filed Date: 4/15/16.

Accession Number: 20160415-5181.

Comments Due: 5 p.m. ET 5/6/16.

Docket Numbers: ER16-1433-000.

Applicants: Southern California Edison Company.

Description: § 205(d) Rate Filing: 2016 Revised Added Facilities Rate under WDAT—Filing No. 6 to be effective 1/1/2016.

Filed Date: 4/15/16.

Accession Number: 20160415-5182.

Comments Due: 5 p.m. ET 5/6/16.

Docket Numbers: ER16-1434-000.

Applicants: ISO New England Inc., New England Power Pool Participants Committee.

Description: Compliance filing: Zonal Demand Curves 206 Filing to be effective 6/15/2016.

Filed Date: 4/15/16.

Accession Number: 20160415-5202.

Comments Due: 5 p.m. ET 5/6/16.

Docket Numbers: ER16-1435-000.

Applicants: PacifiCorp.

Description: § 205(d) Rate Filing: Tri-State Master Install, O&M Agmt for Metering Equipment to be effective 6/15/2016.

Filed Date: 4/15/16.

Accession Number: 20160415-5206.

Comments Due: 5 p.m. ET 5/6/16.

Docket Numbers: ER16-1436-000.

Applicants: Public Service Company of Colorado.

Description: Tariff Cancellation: 20160415_PSCo Tariff Cancellation to be effective 4/15/2016.

Filed Date: 4/15/16.

Accession Number: 20160415-5256.

Comments Due: 5 p.m. ET 5/6/16.

Docket Numbers: ER16-1437-000.

Applicants: 62SK 8ME LLC.

Description: § 205(d) Rate Filing: CO-TENANCY AND SHARED FACILITIES Normal to be effective 6/7/2016.

Filed Date: 4/15/16.

Accession Number: 20160415-5263.

Comments Due: 5 p.m. ET 5/6/16.

Take notice that the Commission received the following electric securities filings:

Docket Numbers: ES16-28-000.

Applicants: American Transmission Company LLC, ATC Management Inc.

Description: Application under Section 204 of the Federal Power Act for Authorization to Issue Securities of American Transmission Company LLC.

Filed Date: 4/15/16.

Accession Number: 20160415-5178.

Comments Due: 5 p.m. ET 5/6/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 15, 2016.
Kimberly D. Bose,
Secretary.

[FR Doc. 2016-09225 Filed 4-20-16; 8:45 am]

BILLING CODE 6717-01-P